DEPARTMENT OF COMMERCE

International Trade Administration

[A-588-846]

Hot-Rolled Flat-Rolled Carbon-Quality Steel Products from Japan: Extension of Time Limit for Preliminary Results of Antidumping Administrative Review

AGENCY: Import Administration, International Trade Administration, Department of Commerce.

ACTION: Notice of Extension of Time Limit for Preliminary Results of Administrative Review.

EFFECTIVE DATE: April 22, 2002.

FOR FURTHER INFORMATION CONTACT: Doug Campau or Maureen Flannery, AD/CVD Enforcement, Import Administration, International Trade Administration, U.S. Department of Commerce, 14th Street and Constitution Avenue, N.W., Washington D.C. 20230; telephone: (202) 482-1395 or (202) 482-3020, respectively.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2001).

SUPPLEMENTARY INFORMATION: The Department published in the Federal Register an antidumping duty order on certain hot-rolled, flat-rolled, carbon-quality steel products (hot-rolled steel) from Japan on June 29, 1999 (64 FR 34778). We published a notice of initiation of this antidumping duty administrative review on hot-rolled steel on July 23, 2001 (66 FR 38252). The period of review (POR) is June 1, 2000 through May 31, 2001. On September 4, 2001, Kawasaki - the sole respondent in this administrative review - informed the Department that it had not made any shipments of subject merchandise during the POR.

Pursuant to section 751(a)(3)(A) of the Act, the Department shall make a preliminary determination in an administrative review of an antidumping duty order within 245 days after the last day of the anniversary month of the date of publication of the order. The Act further provides, however, that the Department may extend the 245-day period to 365 days if it determines that it is not practicable to complete the review within the foregoing time period. In this case, the Department requires additional time to confirm that there have been no entries of subject merchandise from Kawasaki during the POR. Therefore, it is not practicable to complete this administrative review within the time limit mandated by section 751(a)(3)(A) of the Act. In order to obtain further information on any possible entries during the POR, the Department is extending the time limit for the preliminary results by 60 days, until May 1, 2002.

Dated: March 1, 2002
Joseph A. Spetrini,
Deputy Assistant Secretary for Import Administration, Group III.

[FR Doc. 02-9804 Filed 4-19-02; 8:45 am]

BILLING CODE 3510-DS-S